FEDERAL ENERGY REGULATORY COMMISSION

Combined Notice of Filings No. 1

August 17, 2009.

Take notice that the Commission has received the following Natural Gas Pipeline Rate and Refund Report filings:

Docket Numbers: RP09-883-000.

Applicants: Tuscarora Gas Transmission Company.

Description: Tuscarora Gas Transmission Co submits First Revised Sheet 156 to FERC Gas Tariff, First Revised Volume 1, to be effective 9/10/09.

Filed Date: 08/11/2009.

Accession Number: 20090811-0065.

Comment Date: 5 p.m. Eastern Time on Monday, August 24, 2009.

Docket Numbers: RP09-890-000.

Applicants: Rockies Express Pipeline LLC.

Description: Rockies Express Pipeline LLC submits First Revised Sheet No. 42 et al. to FERC Gas Tariff, Second Revised Volume No. 1, to be effective 9/12/09.

Filed Date: 08/12/2009.

Accession Number: 20090812-0090.

Comment Date: 5 p.m. Eastern Time on Monday, August 24, 2009.

Docket Numbers: RP09-891-000.

Applicants: Northern Natural Gas Company.

Description: Northern Natural Gas Company submits 13th Revised Sheet 263H et al. to its FERC Gas Tariff, Fifth Revised Volume 1, to be effective 11/1/09.

Filed Date: 08/12/2009.

Accession Number: 20090812-0072.

Comment Date: 5 p.m. Eastern Time on Monday, August 24, 2009.

Docket Numbers: RP09-892-000.

Applicants: Midwestern Gas Transmission Company.

Description: Midwestern Gas Transmission Co submits Fourth Revised Sheet No. 273A et al. to FERC Gas Tariff, Third Revised Volume No. 1, to be effective 8/12/09.

Filed Date: 08/12/2009.

Accession Number: 20090812-0101.

Comment Date: 5:00 pm Eastern Time on Monday, August 24, 2009.

Docket Numbers: RP09-893-000.

Applicants: MIGC LLC.

Description: MIGC LLC submits its Second Revised Sheet 4 to its FERC Gas Tariff, Second Revised Volume 1, to be effective 10/1/09.

Filed Date: 08/14/2009.

Accession Number: 20090814-0073.

Comment Date: 5 p.m. Eastern Time on Wednesday, August 26, 2009.

Docket Numbers: RP09-894-000.

Applicants: Hardy Storage Company, LLC.

Description: Hardy Storage Company submits Third Revised Sheet 10 to its FERC Gas Tariff, Original Volume 1, to be effective 10/1/09.

Filed Date: 08/14/2009.

Accession Number: 20090814-0260.

Comment Date: 5 p.m. Eastern Time on Wednesday, August 26, 2009.

Docket Numbers: RP09-895-000.

Applicants: Central Kentucky Transmission Company

Description: Central Kentucky Transmission Company submits Eighth Revised Sheet 6 to its FERC Gas Tariff, Original Volume 1, to be effective 10/1/09.

Filed Date: 08/14/2009.

Accession Number: 20090814-0265.

Comment Date: 5 pm Eastern Time on Wednesday, August 26, 2009.

Docket Numbers: RP09-896-000.

Applicants: Crossroads Pipeline Company.

Description: Crossroads Pipeline Company submits Eleventh Revised Sheet 6 to its FERC Gas Tariff, First Revised Volume 1, to be effective 10/1/09.

Filed Date: 08/14/2009.

Accession Number: 20090814-0259.

Comment Date: 5 pm Eastern Time on Wednesday, August 26, 2009.

Docket Numbers: RP09-897-000.

Applicants: Columbia Gulf Transmission Company.

Description: Columbia Gulf Transmission Company submits Fiftieth Revised Sheet 18 et al. to FERC Gas Tariff, Second Revised Volume 1, to be effective 10/1/09.

Filed Date: 08/14/2009.

Accession Number: 20090814-0258.

Comment Date: 5 p.m. Eastern Time on Wednesday, August 26, 2009.

Docket Numbers: RP09-898-000.

Applicants: Columbia Gas Transmission, LLC.

Description: Columbia Gas Transmission, LLC submits Sixth Revised Sheet 25 et al. to its FERC Gas Tariff, Third Revised Volume 1, to be effective 10/1/09.

Filed Date: 08/14/2009.

Accession Number: 20090814-0257.

Comment Date: 5 p.m. Eastern Time on Wednesday, August 26, 2009.

Docket Numbers: RP09-899-000.

Applicants: Kinder Morgan Interstate Gas Transmission LLC.

Description: Kinder Morgan Interstate Gas Transmission LLC submits part of its FERC Gas Tariff, Fourth Revised Volume 1-A, Fifteenth Revised Sheet 4D, to be effective 10/1/09.

Filed Date: 08/14/2009.

Accession Number: 20090814-0256.

Comment Date: 5 p.m. Eastern Time on Wednesday, August 26, 2009.

Docket Numbers: RP09-900-000.

Applicants: TransColorado Gas Transmission Company LLC.

Description: TransColorado Gas Transmission Company LLC submits FERC Gas Tariff, Second Revised Volume 1, Fifth Revised Sheet 20 and Third revised Sheet 21A effective 10/1/09.

Filed Date: 08/14/2009.

Accession Number: 20090814-0255.

Comment Date: 5 p.m. Eastern Time on Wednesday, August 26, 2009.

Docket Numbers: RP09-901-000.

Applicants: Rockies Express Pipeline LLC.

Description: Rockies Express Pipeline LLC submits Second Revised Sheet 7B et al. of FERC Gas Tariff, Second Revised Volume 1, to be effective 10/1/09.

Filed Date: 08/14/2009.

Accession Number: 20090814-0254.

Comment Date: 5 p.m. Eastern Time on Wednesday, August 26, 2009.

Docket Numbers: RP09-902-000.

Applicants: North Baja Pipeline, LLC.

Description: North Baja Pipeline, LLC submits Second Revised Sheet 181 to be part of its FERC Gas Tariff, Original Volume 1, to reflect the Commission's policy on refunds as they relate to short-term capacity release transactions.

Filed Date: 08/14/2009

Accession Number: 20090814-0253

Comment Date: 5 p.m. Eastern Time on Wednesday, August 26, 2009

Docket Numbers: RP09-903-000.

Applicants: Gas Transmission Northwest Corporation.

Description: Gas Transmission Northwest Corporation submits First Revised Sheet 196 to be part of its FERC Gas Tariff, Third Revised Volume 1-A, to be effective 9/13/09.

Filed Date: 08/14/2009.

Accession Number: 20090814-0267.

Comment Date: 5 p.m. Eastern Time on Wednesday, August 26, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-20359 Filed 8-24-09; 8:45 am]

BILLING CODE 6717-01-P